ENVIRONMENTAL PROTECTION AGENCY

[EPA-HQ-OW-2019-0143; FRL-9957-01-OW]

Proposed Information Collection Request; Comment Request; Treatment of Indian Tribes in a Similar Manner as States for Purposes of Section 303(d) of the Clean Water Act (Renewal)

AGENCY: Environmental Protection Agency (EPA).

ACTION: Notice.

SUMMARY: The Environmental Protection Agency (EPA) is planning to submit an information collection request (ICR), “Treatment of Indian Tribes in a Similar Manner as States for Purposes of Section 303(d) of the Clean Water Act (Renewal)” (EPA ICR No. 2553.03 OMB Control No. 2040-0290) to the Office of Management and Budget (OMB) for review and approval in accordance with the Paperwork Reduction Act . Before doing so, EPA is soliciting public comments on specific aspects of the proposed information collection as described below. This is a proposed 3-year extension of the ICR, which is currently approved through March 31, 2023. An Agency may not conduct or sponsor, and a person is not required to respond to, a collection of information unless it displays a currently valid OMB control number.

DATES: Comments must be submitted on or before September 19, 2022.

ADDRESSES: Submit your comments, referencing Docket ID No. EPA-HQ-OW-2019-0143, online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information, or other information whose disclosure is restricted by statute.

FOR FURTHER INFORMATION CONTACT: Edward Laird, Watershed Restoration, Assessment, and Protection Division (WRAPD), Office of Wetlands, Oceans, and Watersheds, Mail Code: 4503T, Environmental Protection Agency, 1200 Pennsylvania Ave. NW, Washington, DC 20460; telephone number: (202) 566-2848; fax number: (202) 566-1437; email address: laird.edward@epa.gov.

SUPPLEMENTARY INFORMATION: Supporting documents that explain in detail the information that the EPA will be collecting are available in the public docket for this ICR (Docket ID EPA-HQ-OW-2019-0143). The docket can be viewed online at www.regulations.gov or in person at the EPA Docket Center, WJC West, Room 3334, 1301 Constitution Ave. NW, Washington, DC. The telephone number for the Docket Center is 202-566-1744. For additional information about EPA's public docket visit http://www.epa.gov/dockets.

Pursuant to Section 3506(c)(2)(A) of the Paperwork Reduction Act (44 U.S.C. 3501 et seq.), EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: In 2016, EPA issued regulations establishing a process for federally recognized tribes to obtain treatment in a similar manner as states (TAS) for purposes of administrating the water quality restoration provisions of Clean Water Act (CWA) Section 303(d), including establishing lists of impaired waters on their reservations and developing total maximum daily loads (TMDLs). The CWA does not require tribes to administer the CWA Section 303(d) program. However, tribes seeking to be authorized must apply for and be found eligible for TAS through the procedures described in the regulations.

Section 303(d) of the CWA requires states, territories, and authorized tribes to identify and establish a priority ranking for waters that do not meet EPA-approved or promulgated water quality standards (WQS) following the implementation of technology-based controls. For waters so identified, Section 303(d) requires states, territories, and authorized tribes to establish TMDLs in accordance with their priority ranking for those pollutants the Administrator identified as suitable for TMDL calculation. A TMDL is the calculation and allocation to point and nonpoint sources of the maximum amount of a pollutant that a water body can receive and still meet applicable WQS, with a margin of safety.

Form Numbers: None.

Respondents/affected entities: Any federally recognized tribe with a reservation.

Respondent's obligation to respond: Voluntary.

Estimated number of respondents: Five.

Frequency of response: Once for initial TAS status, thereafter biennially for lists of impaired waters, and from time to time for TMDLs.

Total estimated burden: 34,757 hours (per year). Burden is defined at 5 CFR 1320.03(b).

Total estimated cost: $2,309,452 (per year). This action does not include annualized capital or operation & maintenance costs.

Changes in Estimates: There is no change of hours in the total estimated respondent burden compared with the ICR currently approved by OMB.

John Goodin,
Director, Office of Wetlands, Oceans, and Watersheds.

[FR Doc. 2022-15370 Filed 7-18-22; 8:45 am]

BILLING CODE 6560-50-P